NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-four meetings, by video conference, of the Humanities Panel, a federal advisory committee, during July 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: July 16, 2024

This video meeting will discuss applications on the topics of American Literature, Language, and Studies, for the Awards for Faculty grant program, submitted to the Division of Research Programs.

2. Date: July 16, 2024

This video meeting will discuss applications on the topics of Arts, Media, and Communications, for the Awards for Faculty grant program, submitted to the Division of Research Programs.

3. Date: July 22, 2024

This video meeting will discuss applications on the topics of American History and Studies, for the Awards for Faculty grant program, submitted to the Division of Research Programs.

4. Date: July 23, 2024

This video meeting will discuss applications for the Cultural and Community Resilience grant program, submitted to the Division of Preservation and Access.

5. Date: July 23, 2024

This video meeting will discuss applications on the topics of World History and Studies, for the Awards for Faculty grant program, submitted to the Division of Research Programs.

6. Date: July 23, 2024

This video meeting will discuss applications on the topics of Literature, Medieval, and Renaissance Studies, for the Awards for Faculty grant program, submitted to the Division of Research Programs.

7. Date: July 24, 2024

This video meeting will discuss applications on the topic of Social Sciences, for the Awards for Faculty grant program, submitted to the Division of Research Programs.

8. Date: July 24, 2024

This video meeting will discuss applications on the topics of Philosophy, Politics, and History, for the Awards for Faculty grant program, submitted to the Division of Research Programs.

9. Date: July 24, 2024

This video meeting will discuss applications on the topics of Collections Care and Preservation Training, for the Preservation and Access Education and Training grant program, submitted to the Division of Preservation and Access.

10. Date: July 24, 2024

This video meeting will discuss applications for the Cultural and Community Resilience grant program, submitted to the Division of Preservation and Access.

11. Date: July 25, 2024

This video meeting will discuss applications for the Cultural and Community Resilience grant program, submitted to the Division of Preservation and Access.

12. Date: July 25, 2024

This video meeting will discuss applications for the Fellowships for Advanced Social Science Research on Japan grant program, submitted to the Division of Research Programs.

13. Date: July 25, 2024

This video meeting will discuss applications on the topics of American Literature, Communications, and Rhetoric, for the Fellowships grant program, submitted to the Division of Research Programs.

14. Date: July 25, 2024

This video meeting will discuss applications on the topics of Music, Dance, Theater, and Performance Studies, for the Fellowships grant program, submitted to the Division of Research Programs.

15. Date: July 26, 2024

This video meeting will discuss applications on the topics of Literature and Literary Theory, for the Fellowships grant program, submitted to the Division of Research Programs.

16. Date: July 26, 2024

This video meeting will discuss applications on the topics of Religious Studies and U.S. History, for the Fellowships grant program, submitted to the Division of Research Programs.

17. Date: July 29, 2024

This video meeting will discuss applications on the topics of Africa, the Middle East, and the Ancient World, for the Fellowships grant program, submitted to the Division of Research Programs.

18. Date: July 29, 2024

This video meeting will discuss applications on the topic of European Studies, for the Fellowships grant program, submitted to the Division of Research Programs.

19. Date: July 30, 2024

This video meeting will discuss applications on the topics of Art, Architecture, and Visual Culture, for the Fellowships grant program, submitted to the Division of Research Programs.

20. Date: July 30, 2024

This video meeting will discuss applications on the topic of Philosophy, for the Fellowships grant program, submitted to the Division of Research Programs.

21. Date: July 30, 2024

This video meeting will discuss applications for the Cultural and Community Resilience grant program, submitted to the Division of Preservation and Access.

22. Date: July 31, 2024

This video meeting will discuss applications for the Cultural and Community Resilience grant program, submitted to the Division of Preservation and Access.

23. Date: July 31, 2024

This video meeting will discuss applications on the topics of Latin American, Caribbean, and American History and Studies, for the Fellowships grant program, submitted to the Division of Research Programs.

24. Date: July 31, 2024

This video meeting will discuss applications on the topics of History of Science, Health Humanities, and Social Sciences, for the Fellowships grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: June 6, 2024.
Jessica Graves,
Paralegal Specialist, National Endowment for the Humanities.

[FR Doc. 2024-12772 Filed 6-10-24; 8:45 am]

BILLING CODE 7536-01-P